DEPARTMENT OF STATE

[Public Notice: 5846]

30-Day Notice of Proposed Information Collection: Recording, Reporting, and Data Collection Requirements Under 22 CFR Part 62 (DS-7000), the Exchange Visitor Program Application (Form DS-3036) and Update of Information on Exchange Visitor Program Sponsor (Form DS-3037); OMB No. 1405-0147

ACTION: Notice of request for public comment and submission to OMB of proposed collection of information.

SUMMARY: The Department of State has submitted the following information collection request to the Office of Management and Budget (OMB) for approval in accordance with the Paperwork Reduction Act of 1995.

• Title of Information Collection: Recording, Reporting, and Data Collection Requirements under 22 CFR Part 62 (DS-7000), the Exchange Visitor Program Application (Form DS-3036) and Update of Information on Exchange Visitor Program Sponsor (Form DS-3037).

• OMB Control Number: OMB No. 1405-0147.

• Type of Request: Revision of a Currently Approved Collection.

• Originating Office: Office of Exchange Coordination and Designation—ECA/EC/AG and ECA/EC/PS.

• Form Number: Forms DS-3036, DS-3037 and DS-7000.

• Respondents: U.S. government, and public and private organizations wishing to become designated sponsors and Department of State designated sponsors.

• Estimated Number of Respondents: 191, 810 (DS-3036—150; DS-3037—1460; DS-7000—190,200).

• Estimated Number of Responses: 1,623,445 (DS-3036—150 annually; DS-3037—2920 annually; DS-7000—1,620,375).

• Average Hours per Response: DS-3036—1 hour; DS-3037—20 minutes; DS-7000—45 minutes.

• Total Estimated Burden: 1,216,404 (DS-3036—150 hours; DS-3037—973 hours; DS-7000—1,215,281 hours).

• Frequency: On Occasion.

• Obligation to Respond: Required to Obtain or Retain a Benefit.

DATES: Submit comments to the Office of Management and Budget (OMB) for up to 30 days from June 25, 2007.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: Stanley S. Colvin, Director, Office of Exchange Coordination and Designation, U.S. Department of State, SA-44, 301 4th Street, SW., Room 734, Washington, DC 20547; or e-mail at jexchanges@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

The collection is the continuation of information collected and needed by the Bureau of Educational and Cultural Affairs in administering the Exchange Visitor Program (J-Visa) under the provisions of the Mutual Educational and Cultural Exchange Act, as amended. The forms have been revised to include the addition of a new category of Intern.

Methodology

Access to Forms DS-3036 and DS-3037 are found in the Student and Exchange Visitor Information System (SEVIS), http://www.ice.gov/sevis.

Dated: June 1, 2007.
Stanley S. Colvin,
Director, Office of Exchange Coordination & Designation, Bureau of Educational and Cultural Affairs, Department of State.

[FR Doc. E7-12272 Filed 6-22-07; 8:45 am]

BILLING CODE 4710-05-P